DEPARTMENT OF DEFENSE

Office of the Secretary

[Docket ID: DoD-2014-HA-0001]

Proposed Collection; Comment Request

AGENCY: Office of the Assistant Secretary of Defense for Health Affairs, DoD.

ACTION: Notice.

SUMMARY: In compliance with Section 3506(c)(2)(A) of the Paperwork Reduction Act of 1995, the Office of the Assistant Secretary of Defense for Health Affairs announces a proposed public information collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by March 10, 2014.

ADDRESSES: You may submit comments, identified by docket number and title, by any of the following methods:

• Federal eRulemaking Portal: http://www.regulations.gov. Follow the instructions for submitting comments.

• Mail: Federal Docket Management System Office, 4800 Mark Center Drive, 2nd floor, East Tower, Suite 02G09, Alexandria, VA 22350-3100.

Instructions: All submissions received must include the agency name, docket number and title for this Federal Register document. The general policy for comments and other submissions from members of the public is to make these submissions available for public viewing on the Internet at http://www.regulations.gov as they are received without change, including any personal identifiers or contact information.

FOR FURTHER INFORMATION CONTACT: To request more information on this proposed information collection or to obtain a copy of the proposal and associated collection instruments, please write to Naval Health Research Center, DoD Center for Deployment Health Research, Department 164, ATTN: Martin White, MPH, 140 Sylvester Rd., San Diego, CA 92106-3521, or call (619) 553-9292.

SUPPLEMENTARY INFORMATION:

Title; Associated Form; and OMB Number: Prospective Department of Defense Studies of US Military Forces: The Millennium Cohort Study; OMB Control Number 0720-0029.

Needs and Uses: The Millennium Cohort Study responds to recent recommendations by Congress and by the Institute of Medicine to perform investigations that systematically collect population-based demographic and health data so as to track and evaluate the health of military personnel throughout the course of their careers and after leaving military service. The Millennium Cohort Study will also evaluate family impact by adding a spouse assessment component to the Cohort, called the Millennium Cohort Family Study.

Affected Public: Civilians, formerly Active Duty and activated Reservists in the US Military, who enrolled and participated in Panels 1, 2, 3, and 4 of the Millennium Cohort Study, and civilians who elect to participate in the Millennium Cohort Family Study.

Millennium Cohort Study

Annual Burden Hours: 35,060.

Number of Respondents: 46,747.

Responses per Respondent: 1.

Average Burden per Response: 45 minutes.

Frequency: every 3 years.

Millennium Cohort Family Study

Annual Burden Hours: 2,682.

Number of Respondents: 3,576.

Responses per Respondent: 1.

Average Burden per Response: 45 minutes.

Frequency: every 3 years.

Persons eligible to respond to this survey are those civilians now separated from military service who initially enrolled, gave consent, and participated in the Millennium Cohort Study while on active duty in the Army, Navy, Air Force, Marine Corps or US Coast Guard during the first, second, third, or fourth panel enrollment periods in 2001-2003, 2004-2006, 2007-2008, or 2011-2012 respectively, as well as civilians that choose to participate in the Millennium Cohort Family Study.

Dated: January 2, 2014.
Aaron Siegel,
Alternate OSD Federal Register Liaison Officer, Department of Defense.

[FR Doc. 2014-00061 Filed 1-7-14; 8:45 am]

BILLING CODE 5001-06-P